DEPARTMENT OF ENERGY

Office of Energy Efficiency and Renewable Energy

Agency Information Collection Extension

AGENCY: Office of Energy Efficiency and Renewable Energy, U.S. Department of Energy.

ACTION: Submission for the Office of Management and Budget (OMB) review; comment request.

SUMMARY: The Department of Energy (DOE) has submitted an information collection request to the OMB for extension under the provisions of the Paperwork Reduction Act of 1995. The information collection requests a three-year extension of its Historic Preservation for Energy Efficiency Programs, OMB Control Number 1910-5155. The proposed collection will allow DOE to continue data collection on the status of Weatherization Assistance Program (WAP), State Energy Program (SEP) and Energy Efficiency and Conservation Block Grant (EECBG) Program activities to ensure that recipients are compliant with Section 106 of the National Historic Preservation Act (NHPA).

DATES: Comments regarding this collection must be received on or before July 13, 2012. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503; and to Christine Platt Patrick, EE-2K, U.S. Department of Energy, 1000 Independence Ave. SW., Washington, DC 20585, Email: Christine.Platt@ee.doe.gov.

FOR FURTHER INFORMATION CONTACT: Christine Platt Patrick, EE-2K, U.S. Department of Energy, 1000 Independence Ave. SW., Washington, DC 20585, Email: Christine.Platt@ee.doe.gov.

Additional information and reporting guidance concerning the Historic Preservation reporting requirement for the WAP, SEP and EECBG are available for review at the following Web site: http://www1.eere.energy.gov/wip/historic_preservation.html.

SUPPLEMENTARY INFORMATION: This information collection request contains: (1) OMB No.: 1910-5155; (2) Information Collection Request Title: Historic Preservation for Energy Efficiency Programs; (3) Type of Request: Renewal; (4) Purpose: To collect data on the status of the WAP, SEP, and EECBG activities to ensure compliance with Section 106 of the NHPA; (5) Annual Estimated Number of Respondents: 2,473; (6) Annual Estimated Number of Total Responses: 2,473; (7) Annual Estimated Number of Burden Hours: 5,264; (8) Annual Estimated Reporting and Recordkeeping Cost Burden: 0.

Statutory Authority: Section 106 of the National Historic Preservation Act (Pub. L. 89-665 106) establishes that WAP, SEP and EECBG recipients must retain sufficient documentation to demonstrate that the recipient (or subrecipient) has received required approval(s) prior to the expenditure of project funds to alter any historic structure or site.

Issued in Washington, DC, on June 7, 2012.
David T. Danielson,
Assistant Secretary, Energy Efficiency and Renewable Energy.

[FR Doc. 2012-14398 Filed 6-12-12; 8:45 am]

BILLING CODE 6450-01-P